OFFICE OF THE UNITED STATES TRADE REPRESENTATIVE

Fiscal Year 2019 Tariff-Rate Quota Allocations for Raw Cane Sugar, Refined and Specialty Sugar and Sugar-Containing Products

AGENCY: Office of the United States Trade Representative.

ACTION: Notice.

SUMMARY: The Office of the United States Trade Representative (USTR) is providing notice of country-by-country allocations of the Fiscal Year 2019 (Oct. 1, 2018 through Sept. 30, 2019) in-quota quantity of the tariff-rate quotas for imported raw cane sugar.

DATES: This notice is applicable on July 18, 2018.

FOR FURTHER INFORMATION CONTACT: Dylan Daniels, Office of Agricultural Affairs, at 202-395-6095.

SUPPLEMENTARY INFORMATION: Pursuant to Additional U.S. Note 5 to Chapter 17 of the Harmonized Tariff Schedule of the United States (HTS), the United States maintains tariff-rate quotas (TRQs) for imports of raw cane sugar. Section 404(d)(3) of the Uruguay Round Agreements Act (19 U.S.C. 3601(d)(3)) authorizes the President to allocate the in-quota quantity of a TRQ for any agricultural product among supplying countries or customs areas. The President delegated this authority to the U.S. Trade Representative under Presidential Proclamation 6763 (60 FR 1007).

On June 29, 2018, the Secretary of Agriculture (Secretary) announced the sugar program provisions for Fiscal Year 2019. The Secretary announced an in-quota quantity of the TRQ for raw cane sugar for Fiscal Year 2019 of 1,117,195 metric tons (conversion factor: 1 metric ton = 1.10231125 short tons) raw value (MTRV), which is the minimum amount to which the United States is committed under the World Trade Organization (WTO) Uruguay Round Agreements. USTR is allocating this quantity (1,117,195 MTRV) to the following countries in the amounts specified below:

Country | Fiscal year 2019 raw cane sugar allocations (MTRV)
Argentina | 45,281
Australia | 87,402
Barbados | 7,371
Belize | 11,584
Bolivia | 8,424
Brazil | 152,691
Colombia | 25,273
Congo | 7,258
Costa Rica | 15,796
Cote d'Ivoire | 7,258
Dominican Republic | 185,335
Ecuador | 11,584
El Salvador | 27,379
Fiji | 9,477
Gabon | 7,258
Guatemala | 50,546
Guyana | 12,636
Haiti | 7,258
Honduras | 10,530
India | 8,424
Jamaica | 11,584
Madagascar | 7,258
Malawi | 10,530
Mauritius | 12,636
Mexico | 7,258
Mozambique | 13,690
Nicaragua | 22,114
Panama | 30,538
Papua New Guinea | 7,258
Paraguay | 7,258
Peru | 43,175
Philippines | 142,160
South Africa | 24,220
St. Kitts & Nevis | 7,258
Swaziland | 16,849
Taiwan | 12,636
Thailand | 14,743
Trinidad & Tobago | 7,371
Uruguay | 7,258
Zimbabwe | 12,636

These allocations are based on the countries' historical shipments to the United States. The allocations of the in-quota quantities of the raw cane sugar TRQ to countries that are net importers of sugar are conditioned on receipt of the appropriate verifications of origin, and certificates for quota eligibility must accompany imports from any country for which an allocation has been provided. Raw cane sugar for Fiscal Year 2019 TRQs may enter the United States as of October 1, 2018.

Robert Lighthizer,
United States Trade Representative.

[FR Doc. 2018-15266 Filed 7-17-18; 8:45 am]

BILLING CODE 3290-F8-P